DEPARTMENT OF THE INTERIOR

Fish and Wildlife Service

Notice of Availability of the Final Sonora Tiger Salamander Recovery Plan

AGENCY: Fish and Wildlife Service, Interior.

ACTION: Notice of document availability

SUMMARY: The U.S. Fish and Wildlife Service announces the availability of the final Recovery Plan for the Sonora tiger salamander (Ambystoma tigrinum stebbinsi). The species occurs on lands managed by the U.S. Forest Service, Coronado National Forest; U.S. Department of the Army, Fort Huachuca, Arizona State Parks, and private lands in the San Rafael Valley and adjacent portions of the Huachuca and Patagonia mountains in southeastern Santa Cruz and southwestern Cochise counties, Arizona.

ADDRESSES: Persons wishing to obtain a copy of the Recovery Plan may contact Jim Rorabaugh, Arizona Ecological Services Field Office, U.S. Fish and Wildlife Service, 2321 West Royal Palm Road, Suite 103, Phoenix, Arizona, 85021-4951 (602/640-2720 x238, Jim_Rorabaugh@fws.gov). The Plan is also available at http://arizonaes.fws.gov. The complete administrative record supporting the development of the Recovery Plan is available on request for public inspection, by appointment, during normal business hours at the above address.

FOR FURTHER INFORMATION CONTACT: Jim Rorabaugh (see ADDRESSES).

SUPPLEMENTARY INFORMATION:

Background

Restoring an endangered or threatened animal or plant species to the point where it is again a secure, self-sustaining member of its ecosystem is a primary goal of the Service's endangered species program. To help guide the recovery effort, the Service prepares recovery plans for most of the listed species native to the United States. Recovery plans describe actions considered necessary for conservation of the species, establish criteria for the recovery levels for downlisting or delisting them, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. On June 16, 2000, the Service published a notice of document availability in the Federal Register announcing the availability for public review of the draft Recovery Plan for the Sonora tiger salamander. Public comments were accepted through August 15, 2000. Three letters of comment were received during the comment period. The draft recovery plan was revised and finalized based on this input.

The Sonora tiger salamander Recovery Plan describes the status, current management, recovery objectives and criteria, and specific actions needed to reclassify the Sonora tiger salamander from endangered to threatened, and to ultimately delist it. The Recovery Plan was developed by Dr. James P. Collins and Jonathan Snyder, Arizona State University, Tempe, Arizona, in coordination with the Service and a team of stakeholders (the Participation Team), which included ranchers, land owners and managers, agency and organization representatives, and herpetologists. The salamander currently only breeds in livestock watering tanks in the San Rafael Valley of southeastern Arizona. Its natural breeding habitats are no longer present or are now unsuitable. The salamander is threatened by loss of natural habitats; predation by nonnative fish, bullfrogs, and crayfish; genetic swamping by nonnative barred tiger salamanders; disease; low genetic diversity; and collection for bait or translocation by anglers. Actions needed to recover the salamander include maintenance and enhancements of habitats, control of nonnative organisms, control of collection and transport of tiger salamanders, actions to reduce spread of disease, monitoring, research, public education and information, and adaptive management. The Recovery Plan includes a Participation Plan, prepared by the Participation Team, which details how the plan should be implemented to minimize social and economic impacts while still providing for the prompt recovery of the salamander. The Service worked with Dr. Collins and the Participation Team to address comments received on the draft Plan during the comment period.

Authority

The authority for this action is Section 4(f) of the Endangered Species Act, 16 U.S.C. 1533(f).

Dated: September 24, 2002.
H. Dale Hall,
Regional Director.

[FR Doc. 03-45 Filed 1-2-03; 8:45 am]

BILLING CODE 4310-55-P